DEPARTMENT OF COMMERCE

International Trade Administration

[A-357-812]

Honey From Argentina: Final Results of Antidumping Duty New Shipper Review

AGENCY: Import Administration, International Trade Administration, Department of Commerce.

SUMMARY: On August 31, 2011, the Department of Commerce (the Department) published its preliminary results of the 2009-2010 new shipper review of the antidumping duty order on honey from Argentina.¹ This review covers one exporter, Villamora S.A. (Villamora).² The period of review (POR) is December 1, 2009 through November 30, 2010. We invited interested parties to comment on the Preliminary Results and received no comments. Therefore, our final results remain unchanged from our Preliminary Results.

¹ See Honey From Argentina: Preliminary Results of Antidumping Duty New Shipper Review, 76 FR 54202 (August 31, 2011) (Preliminary Results).

² The Department determined in its preliminary results that it was appropriate to treat Enzo Juan Garaventa and Villamora as a single entity, pursuant to 19 CFR 351.401(f)(1) and (2). See Preliminary Results. For a more detailed discussion of our collapsing analysis, see Affiliation and Collapsing Memorandum dated August 31, 2011.

DATES: Effective Date: November 30, 2011.

FOR FURTHER INFORMATION CONTACT: Patrick Edwards or Ericka Ukrow, Office 7, Import Administration, International Trade Administration, U.S. Department of Commerce, 14th Street and Constitution Avenue NW., Washington, DC 20230; telephone: (202) 482-8029 or (202) 482-0405, respectively.

SUPPLEMENTARY INFORMATION:

Background

On August 31, 2011, the Department published in the Federal Register the preliminary results of the new shipper review of the antidumping duty order on honey from Argentina. See Preliminary Results. We invited parties to comment on the Preliminary Results. We received neither comments nor a request for a hearing.

Period of Review

The POR is December 1, 2009 through November 30, 2010.

Scope of the Order

The merchandise covered by the order is honey from Argentina. The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form. The merchandise is currently classifiable under subheadings 0409.00.00, 1702.90.90, and 2106.90.99 of the Harmonized Tariff Schedule of the United States (HTSUS). Although the HTSUS subheadings are provided for convenience and U.S. Customs and Border Protection (CBP) purposes, the Department's written description of the merchandise under the order is dispositive.

Final Results of Review

We determine that the following dumping margin exists for the period December 1, 2009, through November 30, 2010:

Manufacturer/exporter | Weighted- average margin (percentage)
Enzo Juan Garaventa or Villamora S.A./Enzo Juan Garaventa or Villamora S.A. | 0.00

Assessment Rates

The Department shall determine, and CBP shall assess, antidumping duties on all appropriate entries, in accordance with 19 CFR 351.212(b). The Department intends to issue appropriate assessment instructions directly to CBP 15 days after publication of these final results of review. In accordance with 19 CFR 351.212(b)(1), we are calculating importer- (or customer-) specific assessment rates for the merchandise subject to this review.

The Department clarified its automatic assessment regulation on May 6, 2003. See Antidumping and Countervailing Duty Proceedings: Assessment of Antidumping Duties, 68 FR 23954 (May 6, 2003). This clarification will apply to entries of subject merchandise during the POR produced by the company included in these final results of review for which the reviewed company did not know their merchandise was destined for the United States. In such instances, we will instruct CBP to liquidate un-reviewed entries at the all-others rate if there is no rate for the intermediate company involved in the transaction.

Cash Deposit Requirements

The following cash deposit requirements will be effective upon publication of the final results of this new shipper review for all shipments of the subject merchandise by Enzo Juan Garaventa or Villamora entered, or withdrawn from warehouse, for consumption on or after the publication date of these final results, consistent with section 751(a)(2)(C) of the Act: (1) For subject merchandise manufactured by Enzo Juan Garaventa and exported by either Villamora or Enzo Juan Garaventa, or manufactured by Villamora and exported by either Enzo Juan Garaventa or Villamora, the cash deposit rate will be zero; (2) for subject merchandise exported by Villamora but not manufactured by Enzo Juan Garaventa or Villamora, or for subject merchandise exported by Enzo Juan Garaventa, but not manufactured by Villamora or Enzo Juan Garaventa, the cash deposit will continue to be the all-others rate (i.e., 30.24 percent); and (4) for subject merchandise manufactured by Villamora or Enzo Juan Garaventa, but exported by any party other than Villamora or Enzo Juan Garaventa, the cash deposit rate will be the rate applicable to the exporter. These deposit requirements, when imposed, shall remain in effect until further notice.

Notifications to Interested Parties

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective orders (APO) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation, which is subject to sanction.

We are issuing and publishing this notice in accordance with sections 751(a)(1) and 777(i)(1) of the Tariff Act of 1930, as amended.

Dated: November 22, 2011.
Paul Piquado,
Assistant Secretary for Import Administration.

[FR Doc. 2011-30859 Filed 11-29-11; 8:45 am]

BILLING CODE 3510-DS-P